DEPARTMENT OF THE INTERIOR

Fish and Wildlife Service

North American Wetlands Conservation Council; Standard Grant Application Instructions

AGENCY: Fish and Wildlife Service, Interior.

ACTION: Notice of availability.

SUMMARY: This notice notifies the public that updated instructions for applying for standard grants (see SUPPLEMENTARY INFORMATION) under the U.S. North American Wetlands Conservation Act are available on the Internet at http://birdhabitat.fws.gov.

DATES: Proposals may be submitted at any time. To ensure adequate review time prior to upcoming North American Wetlands Conservation Council (Council) meetings, the Council Coordinator must receive proposals by March 7, 2003, and July 25, 2003.

ADDRESSES: For detailed application instructions, sample proposal information, and eligibility criteria visit the North American Wetlands Conservation Act (NAWCA) Web site at http://birdhabitat.fws.gov. If you cannot access the Web site, contact the Council Coordinator at U.S. Fish and Wildlife Service, Division of Bird Habitat Conservation, 4401 North Fairfax Drive, MBSP 4075, Arlington, VA 22203, or by phone at 703-358-1784, or by fax at 703-358-2282, or by e-mail at dbhc@fws.gov. Send proposals to the Council Coordinator at the above address by mail (faxed proposals are not accepted). Send one original and two copies by regular mail and send one copy by electronic mail to the Council Coordinator. Send a copy of the proposal to your U.S. North American Waterfowl Management Plan (NAWMP) Joint Venture Coordinator (see next section for JV Coordinators) and all partners in the proposal.

FOR FURTHER INFORMATION CONTACT: North American Wetlands Conservation Council Coordinator at (703) 358-1784 or dbhc@fws.gov, Bettina Sparrowe at (703) 358-1784 or bettina_sparrowe@fws.gov, or a JV Coordinator at the number given below. JV Coordinators can give you advice about developing a proposal, about proposal ranking, and additional information that may be required for compliance requirements for the National Environmental Policy Act, Endangered Species Act, National Historic Preservation Act, and contaminant surveys.

Atlantic Coast (CT, DE, FL, GA, MA, MD, ME, NC, NH, NJ, NY, PA, Puerto Rico, RI, SC, VA, VT, WV) 413-253-8269 or andrew_milliken@fws.gov.

Central Valley (Central Valley of CA) 916-414-6459 or robert_shaffer@fws.gov.

Gulf Coast (coastal areas of AL, LA, MS, TX) 505-248-6876 or greg_esslinger@fws.gov.

Intermountain West (AZ, eastern CA, western CO and ID, southwest MT, western NM, NV, eastern OR, UT, eastern WA, WY) 801-975-3330 x129 or iwjv@xmission.com.

Lower Mississippi Valley (AR; eastern KY; northern LA; eastern MS, OK, and TN; northeastern TX) 601-629-6600 or charles_baxter@fws.gov.

Northern Great Plains 701-250-4463 x141 or aschollett@fs.fed.us.

Pacific Coast (AK, coastal areas of northern CA, HI, coastal areas of OR and WA) 360-696-7630 or carey_smith@fws.gov.

Playa Lakes (southeastern CO, southwestern KS, eastern NM, western OK, TX panhandle) 303-926-0777 or mike.carter@pljv.org.

Prairie Pothole (northwestern IA, western, MN, northern MT, northern and southeastern ND, eastern SD) 303-236-8155 x252 or carol_lively@fws.gov.

Rainwater Basin (17 counties in southeastern NE) 308-382-8112 or steve_moran@fws.gov.

San Francisco Bay (San Francisco Bay in CA) 415-883-3854 or bhuning@sfbayjv.org.

Upper Mississippi River-Great Lakes (Eastern IA and counties bordering the Missouri River, IL, IN, KS counties bordering the Missouri River, MI, MO, eastern MN, NE counties bordering the Missouri River, OH, WI) 612-713-5433 or Barbara_pardo@fws.gov.

SUPPLEMENTARY INFORMATION: The Council has two U.S. conservation grants programs for acquisition, restoration, and enhancement of wetlands in the U.S. Any individual or organization who has a long-term, partner-based project with matching funds can apply. The focus of this notice is standard grant proposals for requests from $51,000 to $1,000,000 per proposal (if well justified, more may be requested). A separate notice will be issued later this year for small grant proposals for requests up to $50,000 per proposal.

The NAWCA established the Council, a Federal-State-private body that recommends projects to the Migratory Bird Conservation Commission (MBCC) for final approval and requires that proposals contain a minimum 1:1 ratio of non-Federal matching funds to grant funds. “Match” (as referred to throughout this document) can be cash, in-kind services, or land acquired/title donated for wetlands conservation purposes.

This notice provides a summary of the 2003 proposal instructions and eligibility criteria available on the internet to develop a NAWCA standard grant proposal. In order to complete a proposal correctly, consult the Web site at http://birdhabitat.fws.gov for detailed instructions. If you cannot access the Web site, contact the Council Coordinator.

Paperwork Reduction Act: In accordance with the Paperwork Reduction Act (44 U.S.C. 3501), the Office of Management and Budget has assigned clearance number 1018-0100 to this information collection authorized by the North American Wetlands Conservation Act of 1989, as amended (16 U.S.C. 4401 et seq.). The information collection solicited is necessary to gain a benefit in the form of a grant, as determined by the Council and MBCC, is necessary to determine the eligibility and relative value of wetland projects, results in an approximate paperwork burden of 400 hours per application, and does not carry a premise of confidentiality. Your response is voluntary. An agency may not conduct or sponsor, and a person is not required to respond to, a collection of information unless it displays a currently valid OMB control number. The public is invited to submit comments on the accuracy of the estimated average burden hours for application preparation and to suggest ways in which the burden may be reduced. Comments may be submitted to: Information Collection Clearance Officer, Mail Stop 224 ARLSQ, U.S. Fish and Wildlife Service, Washington, DC 20240 and/or Desk Officer for Interior Department (1018-0100), Office of Information and Regulatory Affairs, Office of Management and Budget, New Executive Office Building, Washington, DC 20503.

New NAWCA Proposal Information: Six documents are available on the Internet at http://birdhabitat.fws.gov and are summarized below:

1. 2003 Grant Administration Policies and Assistance Award. Describes policies and procedures that NAWCA projects must comply with and shows the one-page grant agreement that will be completed if the proposal is funded.

2. 2003 Eligibility Criteria & Processes. Describes eligible activities and costs for NAWCA projects, gives links to cost principles that apply to all Federal grant programs, and describes steps in the proposal funding process. A standard grant proposal is a four-year plan of action supported by a NAWCA grant and partner funds to conserve wetlands and wetlands-associated fish and wildlife through acquisition (including easements and land title donations), restoration, and/or enhancement (including creation). Match must be non-Federal and at least equal the grant request (referred to as a 1:1 match). Match is eligible up to two years prior to the year the proposal is submitted and grant and match funds are eligible during the two-year future Grant Agreement period.

3. 2003 Proposal Instructions. Describes changes from the 2002 instructions, gives required information for a proposal and provides examples. A proposal has the following sections: Project Officer's Page; Summary; Purpose and Scope; Budget and Work Plan; Technical Assessment Questions; Attachments (budget table, tract table, partner contribution statements, optional matching contributions plan, Standard Form 424, optional aerial photographs, maps); and Easements, Leases, and Indirect Cost Rate Agreement.

4. 2003 Word Proposal Outline. A fill-in-the-blank proposal using the Word program.

5. 2003 WordPerfect Proposal Outline. A fill-in-the-blank proposal using the WordPerfect program.

6. 2003 Excel Budget Table. A fill-in-the-blank budget table in case you do not want to use the budget tables provided in the Word and WordPerfect files.

Dated: February 4, 2003.
Marshall P. Jones, Jr.,
Acting Director, U.S. Fish and Wildlife Service.

[FR Doc. 03-4878 Filed 2-28-03; 8:45 am]

BILLING CODE 4310-55-P